DEPARTMENT OF AGRICULTURE

Submission for OMB Review; Comment Request

May 13, 2021.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by June 18, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: 7 CFR 1726, Electric System Construction Policies and Procedures—Electric.

OMB Control Number: 0572-0107.

Summary of Collection: The Rural Electrification Act of 1936, 7 U.S.C. 901 et seq., as amended, (RE ACT) in Sec. 4 (7 U.S.C. 904) authorizes and empowers the Administrator of the Rural Utilities Service (RUS) to make loans in the several States and Territories of the United States for rural electrification and the furnishing and improving of electric energy to persons in rural areas. These loans are for a term of up to 35 years and are secured by a first mortgage on the borrower's electric system. In the interest of protecting loan security and accomplishing the statutory objective of a sound program of rural electrification, Section 4 of the RE Act further requires that RUS make or guarantee a loan only if there is reasonable assurance that the loan, together with all outstanding loans and obligations of the borrower, will be repaid in full within the time agreed. RUS will collect information using various RUS forms.

Need and Use of the Information: RUS will collect information to implement certain provisions of the RUS standard form of loan documents regarding the borrower's purchase of materials and equipment and the construction of its electric system by contract or force account. The use of standard forms and procurement procedures helps assure RUS that appropriate standards and specifications are maintained; agency loan security is not adversely affected; and loan and loan guarantee funds are used effectively and for the intended purposes. The information will be used by RUS electric borrowers, their contractors and by RUS. If standard forms were not used, borrowers would need to prepare their own documents at a significant expense; and each document submitted by a borrower would require extensive and costly review by both RUS and the Office of the General Counsel.

Description of Respondents: Not-for-profit institutions; Business or other for-profit.

Number of Respondents: 827.

Frequency of Responses: Reporting: On occasion.

Total Burden Hours: 82.

Title: 7 CFR 1780, Water and Waste Disposal Loan and Grant Program.

OMB Control Number: 0572-0121.

Summary of Collection: The Rural Utilities Service (“RUS”), an agency of the Rural Development (“RD”), United States Department of Agriculture, is requesting OMB clearance of the reporting requirements relating to 7 CFR part 1780, the regulation utilized to administer the Water and Waste Loans and Grants program. In addition, RUS is seeking clearance for applicants applying under 7 CFR 1777, Section 306C Water and Waste Disposal Loans and Grant,” and 7 CFR 1778, “Emergency Community Water Assistance Grants”, which follow 7 CFR 1780 for application requirements.

Section 306 of the Consolidated Farm and Rural Development Act (“CONACT”), 7 U.S.C. 1926, authorizes RUS to make loans and grants to public entities, federally-recognized American Indian tribes, and not-for-profit corporations. The loans and grants fund the development of drinking water, wastewater, solid waste disposal, and storm wastewater disposal facilities in rural areas with populations of up to 10,000 residents. A rural area is defined in the CONACT as any city, town, or unincorporated area consisting of no more than 10,000 residents. In addition to the development costs, 7 CFR 1780.9, Eligible loan and grant purposes, defines the associated costs that are eligible for reimbursement, such as reasonable engineering and legal expenses. The agency uses information submitted by applicant entities to determine eligibility and evaluate project feasibility.

Need and Use of the Information: RD state and field offices collect the information from applicants, borrowers, and consultants. They use the information to determine applicant eligibility and project feasibility. They also use the information to ensure that borrowers operate on a sound basis and use the loan and grant funds for authorized purposes as defined in statute and regulation.

Description of Respondents: State, Local or Tribal Government; Not-for-profit institutions.

Number of Respondents: 896.

Frequency of Responses: Reporting: On occasion.

Total Burden Hours: 156,339.

Title: Servicing of Water Programs Loans and Grants.

OMB Control Number: 0572-0137.

Summary of Collection: Authority for servicing of Water Programs Loan and Grants is contained in Section 306e of the Consolidated Farm and Rural Development Act, as amended. The information collected covers loan and grant servicing regulations, 7 CFR part 1782, which prescribes policies and responsibilities for servicing actions necessary in connection with Water and Environmental Programs (WEP) loans and grants. WEP provides loans, guaranteed loans and grants for water, sewer, storm water, and solid waste disposal facilities in rural areas and towns of up to 10,000 people.

Need and Use of the Information: The Rural Utilities Service will collect information using various forms. The Agency provides forms and/or guidelines to assist in collection and submission of the information required to service loans and grants. In some cases, use of Agency forms is optional and the borrower may submit the information required on other forms. The Agency utilizes existing Rural Development forms to the greatest extent possible to continue to meet the needs of the program. The forms or related items completed by the borrower are submitted to and evaluated by the Agency servicing office. The information, mostly financial in nature, is required to determine if borrowers, based on their individual situations, qualify for the various servicing authorities.

Description of Respondents: Business or other for-profit; non-profit institutions; State and local governments.

Number of Respondents: 304.

Frequency of Responses: Reporting: On occasion.

Total Burden Hours: 654.

Levi S. Harrell,
Departmental Information Collection Clearance Officer.

[FR Doc. 2021-10503 Filed 5-18-21; 8:45 am]

BILLING CODE 3410-15-P